CONSUMER PRODUCT SAFETY COMMISSION

16 CFR Parts 1112 and 1260

[Docket No. CPSC-2013-0028]

Safety Standard for Operating Cords on Custom Window Coverings; Notice of Opportunity for Oral Presentation of Comments

AGENCY: Consumer Product Safety Commission.

ACTION: Notice of proposed rulemaking; notice of opportunity for oral presentation of comments.

SUMMARY: The Consumer Product Safety Commission (Commission or CPSC) will be providing an opportunity for interested parties to present oral comments on the notice of proposed rulemaking (NPR) the Commission issued regarding a safety standard for operating cords on custom window coverings. Any oral comments will be part of the rulemaking record.

DATES: The hearing will begin at 10 a.m. Eastern Standard Time (EST) on March 16, 2022, via webinar. All attendees should pre-register for the webinar online at: https://attendee.gotowebinar.com/register/2824746947802696460. Any individual interested in making an oral presentation must register for the webinar and submit a request to make an oral presentation to the Division of the Secretariat, along with the written text of the oral presentation, and such requests must be received no later than 5 p.m. EST on March 2, 2022. All other individuals who wish to attend the hearing should register before the start of the hearing.

ADDRESSES: The hearing will be held via webinar. Attendance is free of charge. Submit requests to make oral presentations and the written text of oral presentations to the Division of the Secretariat, with the caption, “Custom Window Coverings NPR; Oral Presentation,” by email to cpsc-os@cpsc.gov, or by mail to the Division of the Secretariat, Consumer Product Safety Commission, 4330 East-West Highway, Bethesda, MD 20814. Detailed instructions for those making oral presentations and other attendees will be made available on the CPSC public calendar.

FOR FURTHER INFORMATION CONTACT: For information about the subject matter of this hearing, contact Rana Balci-Sinha, Director, Division of Human Factors, Directorate for Engineering Sciences, Office of Hazard Identification and Reduction, Consumer Product Safety Commission, National Product Testing and Evaluation Center, 5 Research Place, Rockville, MD 20850; telephone: 301-987-2584; rbalcisinha@cpsc.gov. For information about the procedure to make an oral presentation, contact Alberta E. Mills, Division of the Secretariat, Consumer Product Safety Commission, 4330 East-West Highway, Bethesda, MD 20814; cpsc-os@cpsc.gov.

SUPPLEMENTARY INFORMATION:

I. Background

On January 7, 2022, the Commission published a notice of proposed rulemaking (NPR) in the Federal Register, proposing to issue a Safety Standard for Operating Cords on Custom Window Coverings under the Consumer Product Safety Act (CPSA; 15 U.S.C. 2051-2089), and seeking written comments. 87 FR 1014. The NPR seeks to address an unreasonable risk of strangulation to children 8 years old and younger associated with custom window coverings that have accessible operating cords that are longer than 8 inches. The NPR would require that operating cords on custom window coverings meet the same requirements as operating cords on stock window coverings, as set forth in the applicable voluntary standard, ANSI/WCMA A100.1—2018, American National Standard for Safety of Corded Window Covering Products. Thus, the proposed rule proposes that operating cords on custom window coverings must be cordless, inaccessible, or 8 inches or shorter in length in any use position. If finalized, operating cords on custom window coverings would require testing and certification to the rule under section 14 of the CPSA. Moreover, operating cords on custom window coverings that meet the definition of a “children's product” would require third party testing by a CPSC-accredited third party conformity assessment body. Accordingly, the proposed rule also proposes to amend the Commission's regulation at 16 CFR part 1112 to add “Safety Standard for Operating Cords on Custom Window Coverings” to the list of rules that require third party testing. The NPR is available at: https://www.federalregister.gov/d/2021-27896, and CPSC staff's briefing package for the NPR is available at: https://www.cpsc.gov/s3fs-public/NPRs-Add-Window-Covering-Cords-to-Substantial-Product-Hazard-List-Establish-Safety-Standard-for-Operating-Cords-on-Custom-Window-Coverings-updated-10-29-2021.pdf?VersionId=HIM05bK3WDLRZrlNGogQLknhFvhtx3PD.

II. The Public Hearing

The Administrative Procedure Act (5 U.S.C. 551-562) and section 9 of the CPSA require the Commission to provide interested parties with an opportunity to submit “written data, views, or arguments” regarding a proposed rule. 5 U.S.C. 553(c); 15 U.S.C. 2058(d)(2). The NPR invited such written comments. Section 9 of the CPSA also requires the Commission to provide interested parties “an opportunity for oral presentation of data, views, or arguments.” 15 U.S.C. 2058(d)(2). The Commission must keep a transcript of such oral presentations. Id. To satisfy this requirement, the Commission is providing a forum for oral presentations concerning the proposed Safety Standard for Operating Cords on Custom Window Coverings.¹

¹ On February 8, 2022, the Commission voted (4-0) to issue this notice of opportunity for oral presentation of comments.

To request the opportunity to make an oral presentation, see the information under the DATES and ADDRESSES sections of this notice. Participants should limit their presentations to approximately 10 minutes, excluding time for questioning by the Commissioners or CPSC staff. To avoid duplicate presentations, groups should designate a spokesperson, and the Commission reserves the right to limit presentation times or impose further restrictions, as necessary.

Alberta E. Mills,
Secretary, Consumer Product Safety Commission.

[FR Doc. 2022-03158 Filed 2-14-22; 8:45 am]

BILLING CODE 6355-01-P